DEPARTMENT OF THE INTERIOR

National Park Service

[NPS-WASO-NAGPRA-23667; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate federally recognized Indian Tribes, and has determined that a cultural affiliation between the human remains and associated funerary objects and any present-day federally recognized Indian Tribes cannot be reasonably traced. Representatives of any federally recognized Indian Tribe not identified in this notice that wish to request transfer of control of these human remains and associated funerary objects should submit a written request to TVA. If no additional requestors come forward, transfer of control of the human remains and associated funerary objects to the federally recognized Indian Tribe stated in this notice may proceed.

DATES: Representatives of any federally recognized Indian Tribe not identified in this notice that wish to request transfer of control of these human remains and associated funerary objects should submit a written request with information in support of the request to TVA at the address in this notice by September 21, 2017.

ADDRESSES: Dr. Thomas O. Maher, TVA, 400 West Summit Hill Drive, WT11D, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of TVA. The human remains and associated funerary objects were removed from multiple archeological sites in Lawrence, Limestone, Madison, and Morgan Counties, AL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Absentee-Shawnee Tribe of Indians of Oklahoma; Alabama-Coushatta Tribe of Texas (previously listed as the Alabama-Coushatta Tribes of Texas); Cherokee Nation; Coushatta Tribe of Louisiana; Eastern Band of Cherokee Indians; Mississippi Band of Choctaw Indians; Poarch Band of Creeks (previously listed as the Poarch Band of Creek Indians of Alabama); The Chickasaw Nation; The Choctaw Nation of Oklahoma; The Muscogee (Creek) Nation; The Seminole Nation of Oklahoma; and United Keetoowah Band of Cherokee Indians in Oklahoma (hereafter referred to as “The Consulted Tribes”).

History and Description of the Remains

In June of 1934, human remains representing, at minimum, 104 individuals were removed from site 1LA16 in Lawrence County, AL, by the Alabama Museum of Natural History at the University of Alabama (AMNH). TVA acquired this site on February 14, 1934, for the Wheeler Reservoir project. Flooding prevented extensive excavation of the site, which is now permanently inundated. There are no radiocarbon dates for this site. The human remains are in the physical custody of AMNH and include adults, juveniles, children, and infants of both sexes. No known individuals were identified. No associated funerary objects are present.

At some time during the 1950s, human remains representing, at minimum, one individual were removed from site 1LI19 in Limestone County, AL, by James Cambron. TVA acquired this site on August 7, 1934, for the Wheeler Reservoir project, but no formal excavations were conducted. Stone tools associated with the Archaic period were collected from the site. The human remains are in the physical custody of AMNH and include one adult, approximately 18 years old, of indeterminate sex. No known individual was identified. No associated funerary objects are present.

At some time during the 1950s, human remains representing, at minimum, three individuals were removed from sites 1LI20 and 1LI21 in Limestone County, AL, by James Cambron. TVA acquired these sites on November 24, 1934, for the Wheeler Reservoir project, but no formal excavations were conducted. Both sites were described as earthen mounds with no chronological placement. The human remains are in the physical custody of AMNH and include one adult male, 30-40 years old, and one adult female, 30-40 years old, from site 1LI20; and one adult female, approximately 50 years old, from site 1LI21. No known individuals were identified. No associated funerary objects are present.

At some time during the 1950s, human remains representing, at minimum, two individuals were removed from sites 1LI25 and 1LI26 in Limestone County, AL, by James Cambron. TVA acquired these sites on December 17, 1935, for the Wheeler Reservoir project, but no formal excavations were conducted. Site 1LI25 was described as an earthen mound, but no chronological placement was determined for either site. The human remains are in the physical custody of AMNH and include one individual, 10-13 years old, of indeterminate sex, from site 1LI25; and one adult of indeterminate sex from site 1LI26. No known individuals were identified. No associated funerary objects are present.

In March of 1934, human remains representing, at minimum, 46 individuals were removed from site 1LI36, in Lawrence County, AL, by AMNH. TVA acquired this site on December 17, 1935, for the Wheeler Reservoir project, and the excavation was conducted with Federal funds in anticipation of the inundation of this site. The site was a shell mound adjacent to the river bank with two raised areas designated Mounds A and B. Mound A was excavated by C.B. Moore in 1914, but artifacts from that excavation are not under TVA's control. Mound B had some evidence of stratification with hearths and burned clay floors, but it is difficult to determine if this mound was primarily due to the collection of village midden, mussel shell, and flood soils over time, or intentionally constructed earthen work. There are no radiocarbon dates available for this site, but artifacts suggest at least two occupations: a Late Woodland McKelvey II phase (A.D. 700-1000) and a Mississippian Hobbs Island phase (A.D. 1200-1450). The human remains and associated funerary objects are in the physical custody of AMNH and include infants, adolescents, and adults of both sexes. No known individuals were identified. The three associated funerary objects are one antler tool, one Mississippi Plain jar, and one Mississippi Plain hemispherical bowl.

From January 1939 to April 1940, human remains representing, at minimum, 232 individuals were removed from the Whitesburg Bridge site (1MA10) in Madison County, AL. TVA acquired this site on July 6, 1936, for the Wheeler Reservoir project, and excavations of both trenches and blocks identified five natural zones (strata). Limestone-tempered Long Branch Fabric Marked ceramics from Zone B suggests an occupation during the Colbert phase (300 B.C.-A.D. 100). Zones D and E were considered pre-ceramic by the excavators and most of the human remains were recovered from Zone D. The presence of ground sandstone and soapstone vessels and Wade and Cotaco Creek projectile points suggest a Late Archaic (4000-1000 B.C.) to Early Woodland (1000-500 B.C.) occupation. The human remains and associated funerary objects are in the physical custody of AMNH and include adults, juveniles, and infants of both sexes. No known individuals were identified. The 1,800 associated funerary objects are 2 bar gorgets; 4 bone awls; 1 bone billet; 2 bone pins; 7 bone punches; 2 bone shaft-wrench; 14 celts (whole and fragments); 1 Cotaco Creek projectile point; 1 Ebenezer projectile point ; 1 grooved stone axe; 1 ground stone tool; 4 ground stone fragments; 1 hafted limestone tool; 1 hammerstone; 2 wolf jaws (headdress); 3 limestone hoes; 1 limestone hoe fragment; 2 limestone fragments; 1 flaked and ground limestone tool; 1 chert knife; 1 Little Bear Creek projectile point; 3 unidentified projectile points; 1 chert preform; 2 sandstone bowls; 224 sandstone bowl sherds; 175 shell and copper beads; 1,217 shell beads; 1 siltstone fragment; 6 soapstone bead fragments; 110 soapstone bowl sherds; 1 stone bead; 2 turtle plastrons; and 5 Wade projectile points.

From February to March of 1934, human remains representing, at minimum, 80 individuals were removed from site 1MG2 in Morgan County, AL, by AMNH. TVA acquired two parcels of land encompassing this site on March 15, 1935, and July 24, 1935, for the Wheeler Reservoir project.The excavation was conducted with Federal funds in anticipation of the inundation of this site. There are no radiocarbon dates from this site, but artifacts suggest occupations from the Late Archaic (4000-1000 B.C.) to the Late Woodland (500-900 B.C.). The human remains are in the physical custody of AMNH and include adults, juveniles, and infants of both sexes. No known individuals were identified. No associated funerary objects are present.

Determinations Made by the Tennessee Valley Authority

Officials of TVA have determined that:

• Pursuant to 25 U.S.C. 3001(9), the human remains described in this notice are Native American based on their presence in prehistoric archeological sites and osteological analysis.

• Pursuant to 25 U.S.C. 3001(9), the human remains described in this notice represent the physical remains of 468 individuals of Native American ancestry.

• Pursuant to 25 U.S.C. 3001(3)(A), the 1,803 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Cherokee Nation; Eastern Band of Cherokee Indians; and United Keetoowah Band of Cherokee Indians in Oklahoma.

• The Treaty of September 20, 1816, indicates that the land from which the Native American human remains were removed is the aboriginal land of The Chickasaw Nation.

• Pursuant to 43 CFR 10.11(c)(1)(ii), the disposition of the human remains may be to the Cherokee Nation; Eastern Band of Cherokee Indians; The Chickasaw Nation; and United Keetoowah Band of Cherokee Indians in Oklahoma. The Chickasaw Nation has declined to accept transfer of control of the human remains.

• Pursuant to 43 CFR 10.11(c)(4), TVA has decided to transfer control of the funerary objects associated with the culturally unidentifiable human remains to the Cherokee Nation; Eastern Band of Cherokee Indians; and United Keetoowah Band of Cherokee Indians in Oklahoma.

Additional Requestors and Disposition

Representatives of any federally recognized Indian Tribe not identified in this notice that wish to request transfer of control of these human remains and associated funerary objects should submit a written request with information in support of the request to Dr. Thomas O. Maher, TVA, 400 West Summit Hill Drive, WT11D, Knoxville, TN 37902-1401, telephone (865) 632-7458, email tomaher@tva.gov, by September 21, 2017. After that date, if no additional requestors have come forward, transfer of control of the human remains and associated funerary objects to the Cherokee Nation; Eastern Band of Cherokee Indians; and United Keetoowah Band of Cherokee Indians in Oklahoma may proceed.

The TVA is responsible for notifying The Consulted Tribes that this notice has been published.

Dated: June 28, 2017.
Melanie O'Brien,
Manager, National NAGPRA Program.

[FR Doc. 2017-17647 Filed 8-21-17; 8:45 am]

BILLING CODE 4312-52-P